DEPARTMENT OF TRANSPORTATION

Global Positioning System Adjacent Band Compatibility Assessment Workshop VI

AGENCY: Office of the Assistant Secretary for Research and Technology (OST-R), Department of Transportation.

ACTION: Notice of meeting.

SUMMARY: The purpose of this notice is to inform the public that the U.S. Department of Transportation will host its sixth workshop on the Global Positioning System (GPS) Adjacent Band Compatibility Assessment effort. The purpose of this workshop is to discuss the results from testing of various categories of GPS/Global Navigation Satellite System (GNSS) receivers to include aviation (non-certified), cellular, general location/navigation, high precision and networks, timing, and space-based receivers, as well as use-case scenarios for these categories.

This workshop is open to the general public by registration only. For those who would like to attend the workshop, we request that you register no later than March 27, 2017. Please use the following link to register: https://volpecenterevents.webex.com/volpecenterevents/onstage/g.php?MTID=e8b1c57d84d8ccaeda24a00e286e4ac48.

You must include:

• Name

• Organization

• Telephone number

• Mailing and email addresses

• Attendance method (WebEx or on site)

• Country of citizenship

The U.S. Department of Transportation is committed to providing equal access to this workshop for all participants. If you need alternative formats or services because of a disability, please contact Stephen Mackey (contact information listed below) with your request by close of business March 24, 2017.

DATES: Date/Time: March 30, 2017 10:00AM-4:00PM (Eastern Daylight Time).

LOCATION: RTCA, Inc., 1150 18th Street NW., Suite 910, Washington, DC 20036.

Several days leading up to the workshop, an email containing the agenda, dial-in, and WebEx information will be provided.

SUPPLEMENTARY INFORMATION: The goal of the GPS Adjacent Band Compatibility Assessment Study is to evaluate the adjacent radio frequency band power levels that can be tolerated by GPS/GNSS receivers, and advance the Department's understanding of the extent to which such power levels impact devices used for transportation safety purposes, among other GPS/GNSS applications. The Department obtained input from broad public outreach in development of its GPS Adjacent Band Compatibility Assessment Test Plan that included four public meetings with stakeholders on September 18 and December 4, 2014, and March 12 and October 2, 2015, public issuance of a draft test plan on September 9, 2015 (see 80 FR 54368), and comments received regarding the test plan. The final test plan was published March 9, 2016 (see 81 FR 12564) and requested voluntary participation in this Study by any interested GPS/GNSS device manufacturers or other parties whose products incorporate GPS/GNSS devices. In April 2016, radiated testing of GNSS devices took place in an anechoic chamber at the U.S. Army Research Laboratory at the White Sands Missile Range (WSMR) facility in New Mexico. Additional lab testing was conducted in July 2016 at Zeta Associates in Fairfax, Virginia and MITRE Corporation in Bedford, Massachusetts (see 81 FR 44408). Initial test results were presented at a fifth public workshop on October 14, 2016 (see 81 FR 68105).

FOR FURTHER INFORMATION CONTACT: Stephen M. Mackey, U.S. Department of Transportation, John A. Volpe National Transportation Systems Center, V-345, 55 Broadway, Cambridge, MA 02142, Stephen.Mackey@dot.gov, 617-494-2753.

Issued in Washington, DC, on March 9, 2017.
Audrey Farley,
Executive Director, Office of the Assistant Secretary for Research and Technology.

[FR Doc. 2017-05121 Filed 3-14-17; 8:45 am]

BILLING CODE 4910-9X-P